DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR Part 67.

The Federal Emergency Management Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and record keeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) modified. ◆Elevation in feet (NAVD) modified
Arkansas | Arkadelphia (City) Clark County (FEMA Docket No. P7649) | Mill Creek | Approximately 1,820 feet downstream of North Eighth Street | *193
|  |  | Approximately 2,800 feet upstream of 26th Street | *245
| (FEMA Docket No. P7649) | Maddox Branch | Approximately 25 feet downstream of Union Pacific Railroad | *186
|  |  | Approximately 425 feet upstream of South 12th Street | *207
Maps are available for inspection at the Town Hall, 700 Clay Street, 121, Arkadelphia, Arkansas.
Louisiana | Jonesville (Town) Catahoula Parish (FEMA Docket No. P7649) | Black River | Approximately 4,100 feet downstream of U.S. Highway 84 | *63
|  |  | At the confluence of Little River | *63
|  | Little River | At the confluence with Black River | *63
|  |  | Approximately 100 feet upstream of the divergence of Airport Canal | *63
Ohio | Chagrin Falls (Village) Cuyahoga County (FEMA Docket No. P7653) | Chagrin River | At the downstream corporate limit, approximately 4,735 feet downstream of Miles Road | *838
|  |  | Just downstream of the corporate limit, approximately 5,100 feet upstream of the dam | *969
Maps are available for inspection at the Village Hall, 21 W. Washington Street, Chagrin Falls, Ohio.
Ohio | Lake County (Unincorporated Areas) (FEMA Docket No. P7655) | Red Creek | Just upstream of CSX Railroad Approximately 700 feet upstream of Farm Road | *677 *696
|  | Red Mill Creek | A reach approximately 1,200 feet south of Norfolk Southern Railroad | *704
|  |  | Area east of the Main Street and 700 feet south of Norfolk Southern Railroad | *#2
Maps are available for inspection at the Lake County Engineers Office, 550 Blackbrook Road, Painesville, Ohio.
Ohio | Perry Lake (Village) Lake County (FEMA Docket No. P7655) | Red Creek |  | *699
| Red Mill Creek | Area east of Main Street and approximately 1,300 feet south of Norfolk Southern Railroad | *710
Maps are available for inspection at the Village of Perry Municipal Center, 3758 Center Road, Perry, Ohio.
Oklahoma | Tuttle (Town) Grady County (FEMA Docket No. P7647) | Coal Creek—Lower Reach | Approximately 200 feet upstream of the confluence with the Canadian River | *1,197
|  |  | Approximately 0.5 mile upstream of North Sarah Road | *1,235
|  | Coal Creek Tributary—Lower Reach | At the confluence with Coal Creek—Lower Reach | *1,221
|  |  | Approximately 0.6 mile upstream of the confluence with Coal Creek—Lower Reach | *1,232
| Tuttle (Town) Lake County (Cont'd) (FEMA Docket No. P7647) | Worley Creek—Lower Reach | Approximately 1,530 feet downstream of East Silver City Ridge Road | *1,204
|  |  | Approximately 140 feet upstream of State Highway 37 | *1,243
Maps are available for inspection at the Town Hall, 301 West Main Street, Tuttle, Oklahoma.

(Catalog of Federal Domestic Assistance No. 83.100, “Flood Insurance”)
Dated: December 7, 2004.
David I. Maurstad,
Acting Director, Mitigation Division, Emergency Preparedness and Response Directorate.

[FR Doc. 04-27248 Filed 12-10-04; 8:45 am]

BILLING CODE 9110-12-P